DEPARTMENT OF HOUSING AND URBAN DEVELOPMENT

[Docket No. FR-5607-N-34 ]

Notice of Proposed Information Collection: Comment Request; Multifamily Housing Service Coordinator Grant

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATE: Comments Due Date: January 14, 2013.

ADDRESSES: Interested persons are invited to submit comments regarding this proposal. Comments should refer to the proposal by name and/or OMB Control Number and should be sent to: Colette Pollard, Departmental Reports Management Officer, QDAM, Department of Housing and Urban Development, 451 7th Street SW., Washington, DC 20410; email Colette.Pollard@HUD.gov.

For Further Information and Copies of the Proposed Forms Contact: Carissa L. Janis, Housing Program Manager, Office of Housing Assistance and Grant Administration, Department of Housing and Urban Development, 451 7th Street SW., Washington, DC 20410, email Carissa.L.Janis@hud.gov and telephone (202) 708-3000. (This is not a toll free number.)

SUPPLEMENTARY INFORMATION: The Department is submitting the proposed information collection to OMB for review, as required by the Paperwork Reduction Act of 1995 (44 U.S.C. Chapter 35, as amended).

This Notice is soliciting comments from members of the public and affected agencies concerning the proposed collection of information to:

1. Evaluate whether the proposed collection is necessary for the proper performance of the functions of the agency, including whether the information will have practical utility;

2. Evaluate the accuracy of the agency's estimate of the burden of the proposed collection of information;

3. Enhance the quality, utility, and clarity of the information to be collected; and minimize the burden of the collection of information on those who are to respond, including the use of appropriate automated collection techniques or other forms of information technology, e.g., permitting electronic submission of responses.

This Notice also lists the following information:

Title of Proposal: Multifamily Housing Service Coordinator Program.

OMB Control Number: 2502-0447.

Description of the need for the information and proposed use:

1. HUD uses the grant applications (SF-424, HUD-91186, and other related documents) to assess the need and proposed use of grant funds and owners' ability to administer those funds.

2. HUD staff will use requests for extensions (HUD-91186-A) to evaluate anticipated program costs and the continued need for the program.

3. The LOCCS Payment Voucher (HUD-50080-SCMF) is used to monitor release of grant funds to reimburse eligible program costs over the term of the grant. Grant recipients will similarly use this voucher to track and record their requests for payment reimbursement for grant-funded expenses.

4. The Department is revising the Semi-Annual Performance Report, HUD-92456. Changes include the following:

A. Additional sources of funding;

B. Modification of resident statistics and the numbers of project tenants and neighborhood residents served by the Service Coordinator during the reporting period;

C. Adding hire date for the Service Coordinator and date of program inception;

D. Adding number of contacts to number of residents that the Service Coordinator links to various supportive services;

E. Providing a glossary of definitions of supportive service types;

F. Modifying the section for reporting time allocation of monthly work responsibilities;

G. Adding a new item to highlight community engagement; including meetings with community agencies and residents and Attendance at or planning of community events, and

H. Adding a new section to track aging in place statistics.

The semi-annual Performance Reports will be used to gauge program performance and effective use of Federal funds to meet stated program goals. The Department proposes the new changes to obtain more specific, accurate, and relevant data. To complete the form, Housing owners and Service Coordinators will develop and maintain meaningful data that reflect the efficacy of the Service Coordinator program. The Burden Hours per Response remains the same at six hours. (Previous requests had overstated the amount of time required to complete the report.)

5. The Department is proposing a new form to be used by field office staff to perform Service Coordinator program reviews. This proposed form is provided in this Notice to solicit comments from the public, even though the form is designed for use by HUD field office staff. The Department requires a consistent protocol to review and evaluate Service Coordinator programs. The use of this form will allow for consistent and thorough program assessment. It will also inform housing owners, management agents, and Service Coordinators about program requirements and expected performance.

6. SF-425

7. HUD-96010

Agency Form Numbers, If Applicable: HUD-2880, HUD-50080-SCMF, HUD-91186, HUD-91186-A, HUD-92455, HUD-92456, HUD-96010, SF-424, SF-424-Supp, SF-425, and SF-LLL.

Estimation of the Total Numbers of Hours Needed to Prepare The Information Collection Including Number of Respondents, Frequency of Response, and Hours of Response: The number of respondents is 10,290; the frequency of responses is quarterly, semi-annually, and annually, with a total of 22,070 total annual responses. The estimated time to prepare collection varies from 15 minutes to 40 hours, with a total of 74,800 annual burden hours.

Status of the Proposed Information Collection: This is a revision of a previously approved collection.

Authority: The Paperwork Reduction Act of 1995, 44 U.S.C., Chapter 35, as amended.

Dated: November 8, 2012.
Laura M. Marin,
Acting General Deputy Assistant Secretary for Housing—Acting General Deputy Housing Commissioner.

[FR Doc. 2012-27802 Filed 11-14-12; 8:45 am]

BILLING CODE 4210-67-P